ENVIRONMENTAL PROTECTION AGENCY

[FRN-7490-7]

Workshop on Asbestos Mechanisms of Toxicity

AGENCY: Environmental Protection Agency (EPA).

ACTION: Notice of public workshop.

SUMMARY: This notice announces a workshop to address the mechanisms of asbestos toxicity and to review the most recent state of science on asbestos. The purpose of the workshop is to discuss the molecular induction of asbestos related disease, lung/pleural pathogenesis, and the extrapolation of a dose response relationship. Expert panelists will discuss the following topic areas: Molecular, chemical and biochemical mechanisms of asbestos fiber toxicity; mechanisms of fiber-inducing lung and pleural disease; and exposure and dose response relationships. A summary report will be prepared documenting the discussions of the workshop, and this report will be publicly available and will support EPA's administrative record for IRIS. This meeting is being sponsored by EPA's Office of Solid Waste and Emergency Response and by EPA's Office of Research and Development.

DATES: The workshop will be held on June 12-13, 2003. The workshop hours will be from 8 a.m. to 5 p.m. on Thursday, June 12, and from 8 a.m. to 12 p.m. on Friday, June 13. Observers will be encouraged to submit comments on panel discussions currently scheduled on Thursday and Friday.

ADDRESSES: The workshop will be held at the Hyatt Regency Hotel in Chicago, Illinois. To attend the workshop as an observer, contact the MNG Center of SRA International (MNG) either in writing, by electronic mail, or by telephone. MNG's contact information for this workshop is: MNG Center, Asbestos Workshop Registration, 2801 Clarendon Boulevard, Suite 100, Arlington, Virginia 22201. Phone Number: (703) 292-5939. E-mail: asbestosworkshop@sra.com. Web link: http://www.epa.gov/swerrims/asbestos_ws/index.htm.

There is no charge for attending this workshop as an observer, but observers are encouraged to register early as the number of seats will be limited. Each registrant will receive a confirmation notice, a preliminary agenda, and a logistical fact sheet that contains directions to the meeting location. Copies of the presentation material can be obtained prior to the meeting from the EPA, Web page http://www.epa.gov/swerrims/asbestos_ws/index.htm.

SUPPLEMENTARY INFORMATION: EPA's current assessment of asbestos toxicity is based primarily on an asbestos assessment completed in 1986, and EPA's assessment has not changed substantially since that time. However, since 1986, there have been substantial improvements in asbestos measurement techniques and in the understanding of how asbestos exposure contributes to disease. To incorporate the knowledge gained over the last 17 years into the agency's toxicity assessment for asbestos, EPA is interested in reviewing the most up-to-date peer review literature on the mechanisms of asbestos toxicity. The experts will include scientists with extensive expertise in relevant fields, such as mechanistic toxicology, pulmonology toxicology, and risk assessment. The panelists will be asked to respond to several questions that address key issues, including interpretations of epidemiology and toxicology literature, mechanistic toxicity and general topics. The product of the workshop will be a report that summarizes the panelists' and observers' comments, conclusions, and recommendations on the proposed methodology.

FOR FURTHER INFORMATION CONTACT: For general information, contact the RCRA/CERCLA Call Center at 800-424-9346 or TDD 800-553-7672 (hearing impaired). In the Washington, DC metropolitan area, call 703-412-9810 or TDD 703-412-3323.

For more detailed technical information on this conference call Anna Treinies (202-566-1039) Office of Emergency and Remedial Response, U.S. Environmental Protection Agency, 1200 Pennsylvania Avenue, NW., Washington, DC 20460-0002, Mail Code 5103T.

Dated: April 24, 2003.
Devereaux Barnes,
Director, Office of Program Management, Office of Solid Waste and Emergency Response.

[FR Doc. 03-10650 Filed 4-29-03; 8:45 am]

BILLING CODE 6560-50-P